DEPARTMENT OF ENERGY

Federal Energy Regulatory Commission

[Docket No. ER11-2128-000]

California Independent System Operator Corporation; Notice of Institution of Section 206 Proceeding and Refund Effective Date

February 2, 2011.

On January 31, 2011, the Commission issued an order that instituted a proceeding in Docket No. ER11-2128-000, pursuant to section 206 of the Federal Power Act (FPA), 16 U.S.C. 824e, concerning the justness and reasonableness of the California Independent System Operator Corporation's Virtual Award Charge. California Independent System Operator Corp., 134 FERC ¶ 61,070 (2011).

The refund effective date in Docket No. ER11-2128-000, established pursuant to section 206(b) of the FPA, will be the date of publication of this notice in the Federal Register.

Kimberly D. Bose,
Secretary.

[FR Doc. 2011-2805 Filed 2-8-11; 8:45 am]

BILLING CODE 6717-01-P